DEPARTMENT OF LABOR

Office of the Secretary

Agency Information Collection Activities; Comment Request; United States-Mexico-Canada Agreement (USMCA) Web-based Hotline

AGENCY: Bureau of International Labor Affairs (ILAB), United States Department of Labor (DOL).

ACTION: Notice of information collections and request for comments.

SUMMARY: In compliance with the Paperwork Reduction Act of 1995, the DOL is soliciting public comments regarding this ILAB-sponsored information collection to the Office of Management and Budget (OMB) for review and approval.

DATES: Comments pertaining to this information collection are due on or before November 20, 2020.

ADDRESSES: Electronic submission: You may submit comments and attachments electronically at http://www.regulations.gov. Follow the online instructions for submitting comments.

Mail submission: 200 Constitution Ave. NW, Room S-5315, Washington, DC 2020. Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Chad Salitan by telephone at 202-693-4882 (this is not a toll-free number) or by email at DOL_PRA_PUBLIC@dol.gov.

SUPPLEMENTARY INFORMATION: On January 29, 2020, the President signed H.R. 5430—United States-Mexico-Canada Agreement Implementation Act (the Act).¹ Section 711 of the Act prescribes the establishment of an Interagency Labor Committee for Monitoring and Enforcement (ILC) and Section 717 charges the ILC with establishing a “web-based hotline” monitored by the DOL. The hotline serves as an electronic portal to collect “confidential information” or “whistleblower tips” regarding labor issues among USMCA countries directly from interested parties, including Mexican workers.

¹ United States-Mexico-Canada Agreement Implementation Act, Public Law 116-113 (2020). https://www.congress.gov/bill/116th-congress/house-bill/5430/text.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-ILAB.

Title of Collection: USMCA Web-based Hotline.

OMB Control Number: 1225-0NEW.

Total Estimated Number of Respondents: 2,300.

Total Estimated Number of Responses: 2,400.

Total Estimated Annual Time Burden: 2,400 hours.

Total Estimated Annual Other Costs Burden: $ 0.

(Authority: 44 U.S.C. 3506(c)(2)(A)).

Dated: September 4, 2020.
Grant B. Lebens,
Chief of Staff, Bureau of International Labor Affairs.

[FR Doc. 2020-20726 Filed 9-18-20; 8:45 am]

BILLING CODE 4510-28-P